FEDERAL MARITIME COMMISSION

Ocean Transportation Intermediary License; Revocation

The Federal Maritime Commission hereby gives notice that the following Ocean Transportation Intermediary license has been revoked pursuant to section 19 of the Shipping Act of 1984 (46 U.S.C. Chapter 409) and the regulations of the Commission pertaining to the licensing of Ocean Transportation Intermediaries, 46 CFR part 515, effective on the corresponding date shown below:

License Number: 020542n.

Name: Overseas Transport USA Corp.

Address: 3107 Stirling Road, Suite 107, Fort Lauderdale, FL 33312.

Date Revoked: September 29, 2011.

Sandra L. Kusumoto,
Director, Bureau of Certification and Licensing.

[FR Doc. 2011-28423 Filed 11-1-11; 8:45 am]

BILLING CODE 6730-01-P